DEPARTMENT OF STATE

[Public Notice 6472]

Family Advocacy Case Records

SUMMARY: Notice is hereby given that the Department of State proposes to create a new system of records, pursuant to the provision of the Privacy Act of 1974 as amended (5 U.S.C. 552a) and Office of Management and Budget Circular No. A-130, Appendix I. The Department's report was filed with the Office of Management and Budget on December 29, 2008.

It is proposed that the system be named “Family Advocacy Case Records System.” The system description will specify that Family Advocacy Case Record System maintains records concerning alleged, suspected or established child abuse or neglect or domestic violence on individuals who have been the subject of the Department of State's Family Advocacy Program, including individuals who are or were under the authority of a Chief of Mission at a post abroad. Individuals whose information is continued in the system of records may include children who are alleged to have been the subject of abuse or neglect, family members of such children, alleged perpetrators of such abuse or neglect and those involved with allegations of domestic violence.

Any persons interested in commenting on the new Family Advocacy Case Records system of records may do so by submitting comments in writing to Margaret P. Grafeld, Director, Office of Information Programs and Service, A/ISS/IPS, SA-2, 515 22nd Street, NW., Department of State, Washington, DC 20522-8001. The new system of records for the Family Advocacy Case Records will be effective, unless comments are received 40 days from the date of publication that result in a contrary determination.

This new system description will read as set forth below.

Dated: December 29, 2008.
William H. Moser,
Acting Assistant Secretary for the Bureau of Administration, Department of State.

State-75

SYSTEM NAME:

Family Advocacy Case Records.

SECURITY CLASSIFICATION:

Primarily unclassified but may include classified information.

SYSTEM LOCATION:

Department of State, Office of Medical Services, SA-1, 2401 E Street, NW., Washington, DC 20522, and at overseas posts.

CATEGORIES OF INDIVIDUALS COVERED BY THE SYSTEM:

Individuals who have been the subject of the Department of State Family Advocacy Program, including but not limited to individuals who are or were under the authority of a Chief of Mission at a post abroad. Individuals may include children who are alleged to have been the subject of abuse or neglect, family members of such children, and the alleged perpetrators of such abuse or neglect. Individuals also may include those involved with allegations of domestic violence.

AUTHORITY FOR MAINTENANCE OF THE SYSTEM:

Section 226 of the Victims of Child Abuse Act of 1990 42 U.S.C. 13031; sections 201, 206, 207 of Foreign Service Act of 1980 22 U.S.C. 3921, section 3926, section 3927 (Management of the Foreign Service); section 904 of the Foreign Service Act, 22 U.S.C. 4084 (Health Care for the Foreign Service); 5 U.S.C. 301 (Management of the Department of State); 22 U.S.C. 4802, Executive Order 10450; and 28 CFR 81.1 et seq.

CATEGORIES OF RECORDS IN THE SYSTEM:

All available information concerning alleged, suspected or established child abuse or neglect or domestic violence. Included could be medical records, reports from medical officers at post, health care records from post, Family Advocacy Committee and Post Family Advocacy Team recommendations, law enforcement investigative reports, Regional Security Officer reports, witness reports, telegrams, email communications, correspondence, evaluative reports by medical and other professionals, photographs, lab results, x-rays, court documents, legal documents such as power of attorney, and other related records.

PURPOSE:

The information in this system is used at post by members of the Family Advocacy Team and in the Department of State by the Family Advocacy Committee. The information may be shared within the Department of State on a need to know basis and in medical clearance determinations for overseas assignment of covered employees and family members, as well as for making determinations involving curtailment, medical evacuation, suitability, and security clearance.

ROUTINE USES OF RECORDS MAINTAINED IN THE SYSTEM, INCLUDING CATEGORIES OF USERS AND THE PURPOSE OF SUCH USES:

The routine uses of the information also include:

(1) In cases of suspected child abuse, to the officials designated to receive reports of such cases pursuant to the Victims of Child Abuse Act of 1990;

(2) In cases of suspected child abuse or neglect, or domestic violence, to the appropriate federal, state, local or foreign government officials who may be involved with the investigation, prosecution, or the provision of services in such cases;

(3) To medical professionals, health care providers, and social workers, for purposes of providing treatment and/or services to the individuals covered by this system of records;

(4) To other United States Government agencies and local authorities in the performance of their official duties relating to coordination of family advocacy programs, medical care and research concerning child abuse and neglect, and domestic abuse in cases involving employees; or

(5) To medical professionals to whom referrals are being made for evaluation and/or diagnostic assessments.

Also see “Routine Uses” paragraph of the Prefatory Statement published in the Federal Register.

POLICIES AND PRACTICES FOR STORING, RETRIEVING, ACCESSING, RETAINING AND DISPOSING OF RECORDS IN THE SYSTEM:

STORAGE:

Paper.

RETRIEVABILITY:

Individual name.

SAFEGUARDS:

All Department of State employees and contractors with authorized access have undergone a thorough background security investigation. All users must pass training on the correct procedures for handling Sensitive but Unclassified and personally identifiable information. Annual refresher training is mandatory.

Access to the Department of State, its annexes and posts overseas is controlled by security guards and admission is limited to those individuals possessing a valid identification card or individuals under proper escort. All records containing Family Advocacy Case information are maintained in secured file cabinets in restricted areas, access to which is limited to authorized personnel.

RETENTION AND DISPOSAL:

Records will be maintained until they become inactive, at which time they will be retired or destroyed in accordance with published records schedules of the Department of State as approved by the National Archives and Records Administration. More specific information may be obtained by writing to the Director, Office of Information Programs and Services, A/ISS/IPS, SA-2, Department of State, 515 22nd Street, NW., Washington DC 20522-8001.

SYSTEM MANAGER AND ADDRESS:

Director, Mental Health Services, Office of Medical Services, U.S. Department of State, SA-1, 2401 E Street, NW., Washington, DC 20522. At overseas locations, the on-site system manager is the head of the Family Advocacy Team at post.

NOTIFICATION ACCESS AND AMENDMENT PROCEDURES:

Individuals who believe that the Office of Medical Services may have records pertaining to them may write to the Director, Office of Information Programs and Services, A/ISS/IPS, SA-2, Department of State, 515 22nd Street, NW., Washington DC 20522-8001, and specify that he/she wishes the Family Advocacy Case Records to be reviewed. At a minimum, the individual should include: Name, date and place of birth, current mailing address and zip code, signature, a brief description of the circumstances that may have caused the creation of the record, and the approximate date(s) of the records.

RECORD ACCESS AND AMENDMENT PROCEDURES:

Individuals who wish to gain access to or to amend records pertaining to them may write to the Director, Office of Information Programs and Services (address above).

RECORD SOURCE CATEGORIES:

Records contain information obtained primarily from the individual who is the subject of the records, medical professionals and other health care providers, social workers, investigating officers, prosecuting attorneys, witnesses, and Family Advocacy Team and Committee members, and other United States Government agencies.

SYSTEMS EXEMPTED FROM CERTAIN PROVISIONS OF THE PRIVACY ACT:

Pursuant to 5 U.S.C. 552a(k)(1) and (k)(2), certain records contained in this system of records are exempt from 5 U.S.C. (a)(c)(3), (d)(e)(1), (e)(4)(G), (H), (I), and (f) in accordance with Department of State rules published in the Federal Register.

[FR Doc. E8-31339 Filed 1-2-09; 8:45 am]

BILLING CODE 4710-24-P